ENVIRONMENTAL PROTECTION AGENCY

[FRL-9627-9]

Notice of Final National Pollutant Discharge Elimination System (NPDES) General Permit for Discharges From Concentrated Animal Feeding Operations (CAFOs) in Oklahoma (OKG010000)

AGENCY: Environmental Protection Agency (EPA), Region 6.

ACTION: Notice of NPDES general permit reissuance.

SUMMARY: EPA Region 6 today is providing notice that an NPDES general permit for discharges from eligible owners/operators of concentrated animal feeding operations (CAFOs), in Oklahoma, except those discharges on Indian Country was issued. Unless excluded by Part I.D or I.F of the final permit, animal feeding operations that are defined as CAFOs or designated as CAFOs by the permitting authority (See Part VII Definitions, “CAFOs”) and that are subject to 40 CFR part 412, Subparts A (Horses and Sheep), C (Dairy Cows and Cattle Other than Veal Calves), and D (Swine, Poultry, and Veal Calves) are eligible for coverage under this permit. This permit covers the types of animal feeding operations listed above which meet the definition of a CAFO and discharge pollutants to waters of the United States.

A copy of the Region's responses to comments and the final permit may be obtained from the EPA Region 6 Internet site: http://www.epa.gov/region6/water/npdes/cafo/index.htm.

DATES: This permit shall be effective on February 1, 2012 and expire on January 31, 2017. In accordance with 40 CFR part 23, this permit shall be considered issued for the purpose of judicial review on February 21, 2012. Under section 509(b) of the Clean Water Act, judicial review of this general permit can be had by filing a petition for review in the United States Court of Appeals within 120 days after the permit is considered issued for judicial review. Under section 509(b)(2) of the Clean Water Act, the requirements in this permit may not be challenged later in civil or criminal proceedings to enforce these requirements. In addition, this permit may not be challenged in other agency proceedings. Deadlines for submittal of notices of intent are provided in Part I.E of the permit.

FOR FURTHER INFORMATION CONTACT: Ms. Diane Smith, Water Quality Protection Division, EPA Region 6, 1445 Ross Avenue, Dallas, Texas 75202-2733, telephone: (214) 665-2145, or via email at: smith.diane@epa.gov.

SUPPLEMENTARY INFORMATION: Pursuant to section 402 of the Clean Water Act (CWA), 33 U.S.C. section 1342, EPA proposed and solicited comments on NPDES general permit OKG010000 at 74 FR 12849 (March 25, 2009). The comment period was extended to May 26, 2009. See 74 FR 20296 (May 1, 2009).

Region 6 received comments from Jean Public; Leo Byford; Oklahoma Department of Agriculture, Food, and Forestry (ODAFF); Crawford Farms, Inc.; Enviro-Ag Engineering; U.S. Fish and Wildlife Service (USFWS); Oklahoma State University (OSU); Pride Feeders, LP; Oklahoma Farm Bureau (OFB); Premium Beef Feeders, LLC; Tri-State Feeders, Inc.; Dairy Producers of New Mexico (DPNM); Karen Brewer; Murphy-Brown LLC; Seaboard Foods; Texas Cattle Feeders Association (TCFA); The Hanor Company of Wisconsin, LLC; The Maschhoffs; Wheeler Brothers Grain Company (WBGC); Hitch Enterprises (Jason Hitch); Hitch Enterprises (Patricia Burt); JBS Five Rivers Cattle Feeding LLC, Oklahoma Pork Council (OPC); Robert Bergner; Tyson Foods, Inc.; Richard Robinson.

On September 15, 2010, the United States Fish and Wildlife Service (USFWS) initiated formal consultation on the proposed permitting action under section 7 of the Endangered Species Act. Due to the conclusion of formal consultation with the USFWS and finalization of its Biological Opinion (BO) on December 14, 2011, EPA has removed Part I.D.5 from the permit. Additionally, consultation between EPA and the USFWS has resulted in the addition and modification of certain permit conditions designed with consideration for listed species and critical habitat.

EPA Region 6 considered all comments received in reaching the final permit decision. Additionally, the Oklahoma Department of Environmental Quality provided EPA with a CWA Section 401 Certification on June 24, 2009, which included conditions of certification that were incorporated into the final permit. An explicit option to submit notice of intent documents electronically was removed from the final permit due to unforeseen difficulties in setting up such a system at this time. A summary of the changes made to the proposed permit can be found in the response to comments document on the aforementioned EPA Region 6 Internet site.

Authority: Clean Water Act, 33 U.S.C. 1251 et seq.

Dated: January 30, 2012.
William K. Honker,
Acting Director, Water Quality Protection Division, EPA Region 6.

[FR Doc. 2012-2722 Filed 2-6-12; 8:45 am]

BILLING CODE 6560-50-P